DEPARTMENT OF AGRICULTURE

Agricultural Marketing Service

7 CFR Part 983

[Docket No. FV02-983-1 FR]

Pistachios Grown in California; Delay of the Effective Date for Aflatoxin, Size and Quality Requirements

Correction

In rule document 05-182 appearing on page 661 in the issue of Wednesday, January 5, 2005 make the following correction:

In the first column, under DATES, in the last line “August 12, 2005” should read “August 1, 2005”.

[FR Doc. C5-182 Filed 1-27-05; 8:45 am]

BILLING CODE 1505-01-D

DEPARTMENT OF TRANSPORTATION

Federal Aviation Administration

14 CFR Part 39

[Docket No. 2004-CE-01-AD; Amendment 39-13943; AD 2005-01-18]

RIN 2120-AA64

Airworthiness Directives; Raytheon Aircraft Company Beech 100, 200, and 300 Series Airplanes

Correction

In rule document 05-716 beginning on page 2941 in the issue of Wednesday, January 19, 2005 make the following corrections:

§39.13 [Corrected]

1. On page 2943, in §39.13(e), in the table, under the second column, in the first entry, in the 10th line, “AD 93-35-07” should read “AD 93-25-07”.

2. On the same page, in the same section, in the same table, in the same column, in the second entry, in the third line, “AD 93-35-07” should read “AD 93-25-07”.

3. On the same page in the same section, in the same table, in the same column, in the same entry, in the eighth line, “AD 93-25-0-7” should read “AD 93-25-07”.

[FR Doc. C5-716 Filed 1-27-05; 8:45 am]

BILLING CODE 1505-01-D

DEPARTMENT OF TRANSPORTATION

Federal Aviation Administration

14 CFR Part 71

[Docket No. FAA-2004-19583; Airspace Docket No. 04-ACE-73]

Modification of Class E Airspace; Coffeyville, KS

Correction

In rule document 05-971 beginning on page 2948 in the issue of Wednesday, January 19, 2005, make the following correction:

§ 71.1 [Corrected]

On page 2950, in the first column, in § 71.1, after the heading ACE KS E5 Coffeyville, KS, in the next line, “Coffeeyville” should read “Coffeyville.”

[FR Doc. C5-971 Filed 1-27-05; 8:45 am]

BILLING CODE 1505-01-D